COMMODITY FUTURES TRADING COMMISSION

Sunshine Act Meetings

TIME AND DATE: 10:00 a.m. EDT, Thursday, June 25, 2020.

PLACE: Conference call.

STATUS: Open.

MATTERS TO BE CONSIDERED: The Commodity Futures Trading Commission (“Commission” or “CFTC”) will hold this meeting to consider the following matters:

• Final Rule: Prohibitions and Restrictions on Proprietary Trading and Certain Interests in, and Relationships With, Hedge Funds and Private Equity Funds (Volcker Rule);

• Final Rule: Exemption from the Swap Clearing Requirement for Certain Affiliated Entities—Alternative Compliance Frameworks for Anti-Evasionary Measures (Inter-Affiliate Exemption 50.52);

• Final Rule: Post-Trade Name Give-Up on Swap Execution Facilities;

• Proposed Rule: Margin Requirements for Uncleared Swaps for Swap Dealers and Major Swap Participants (Phase VI Compliance Date Extension);

• Proposed Rule: Electronic Trading Risk Principles; and

• Withdrawal of Regulation AT.

The agenda for this meeting will be available to the public and posted on the Commission's website at https://www.cftc.gov. Instructions for public access to the live audio feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: June 18, 2020.
Robert Sidman,
Deputy Secretary of the Commission.

[FR Doc. 2020-13572 Filed 6-19-20; 11:15 am]

BILLING CODE 6351-01-P